NATIONAL SCIENCE FOUNDATION

Advisory Committee for Polar Programs; Notice of Meeting

In accordance with Federal Advisory Committee Act (Pub. L. 92-463, as amended), the National Science Foundation announces the following meeting:

Name: Office of Polar Programs Advisory Committee (1130).

Date/Time: May 29, 2003; 8 a.m. to 5 p.m., May 30, 2003; 8 a.m. to 3 p.m.

Place: National Science Foundation, 4201 Wilson Blvd., Room: 555, Stafford II, Arlington, VA 22230.

Type of Meeting: Open.

Contact Person: Altie Metcalf, Office of Polar Programs (OPP), National Science Foundation, 4201 Wilson Boulevard, Arlington, VA 22230. (703) 292-8030.

Minutes: May be obtained from the contact person listed above.

Purpose of Meeting: To advise NSF on the impact of its policies, programs and activities on the polar research community; to provide advice to the Director of OPP on issues related to long range planning, and to form ad hoc subcommittees to carry out needed studies and tasks.

Agenda: Discussion of NSF-wide initiatives and long-range planning.

Dated: March 18, 2003.
Susanne Bolton,
Committee Management Officer.

[FR Doc. 03-6904 Filed 3-21-03; 8:45 am]

BILLING CODE 7555-01-M